DEPARTMENT OF JUSTICE

Antitrust Division

Notice Pursuant to the National Cooperative Research and Production Act of 1933—Open Devicenet Vendor Association, Inc.

Notice is hereby given that, on may 12, 2004, pursuant to section 6(a) of the National Cooperative Research and Production Act of 1993, 15 U.S.C. 4301 et seq. (“the Act”), Open DeviceNet Vendor Association, Inc. has filed written notifications simultaneously with the Attorney General and the Federal Trade Commission disclosing changes in its membership status. The notifications were filed for the purpose of extending the Act's provisions limiting the recovery of antitrust plaintiffs to actual damages under specified circumstances. Specifically, Moxa Networking Co. Ltd., Taipei, TAIWAN; Microwave Data Systems, Rochester, NY; and Agilicom, Tours, FRANCE have been added as parties to this venture. Also, Qualiflow, Montpellier, FRANCE; Cosmotechs Co., Ltd., Kanagawa, JAPAN; Scientific Technologies, Inc., Fremont, CA; Mencom Corporation, Gainesville, GA; ABB Welding Systems AB, Laxa, SWEDEN; TR Controls, London, Ontario, CANADA; Wonderware Cooperation, Lebanon, OH; and Control Technology Incorporated, Knoxville, TN have been dropped as parties to this venture. The following members have changed their names: SST Division of Woodhead Canada to Woodhead Software & Electronics, Waterloo, Ontario, CANADA; Applicom International to Woodhead Software & Electronics, Waterloo, Ontario, CANADA; Cutler-Hammer, Inc. to Eaton Electrical Inc., Philadelphia, PA; and Hirschmann Electronics to Hirschmann Electronics GmbH & Co., Pine Brook, NJ.

No other changes have been made in either the membership or planned activity of the group research project. Membership in this group research project remains open, and Open DeviceNet Vendor Association, Inc. intends to file additional written notification disclosing all changes in membership.

On June 21, 1995, Open DeviceNet Vendor Association, Inc. filed its original notification pursuant to section 6(a) of the Act. The Department of Justice published a notice in the Federal Register pursuant to section 6(b) of the Act on February 15, 1996 (61 FR 6039).

The last notification was filed with the Department on December 31, 2003. A notice was published in the Federal Register pursuant to Section 6(b) of the Act on February 24, 2004 (69 FR 8483).

Dorothy B. Fountain,
Deputy Director of Operations, Antitrust Division.

[FR Doc. 04-13876 Filed 6-18-04; 8:45 am]

BILLING CODE 4410-11-M